DEPARTMENT OF THE TREASURY

Submission for OMB Review; Comment Request

November 13, 2007.

The Department of the Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 19, 2007 to be assured of consideration.

Bureau of Public Debt (BPD)

OMB Number: 1535-0117.

Type of Review: Revision.

Title: Resolution For Transactions Involving Registered Securities.

Forms: PD-F-1010.

Description: Completed by an official of an organization that is designated to act on behalf of the organization.

Respondents: Businesses or other for-profit institutions.

Estimated Total Burden Hours: 85 hours.

Clearance Officer: Vicki S. Thorpe, (304) 480-8150. Bureau of the Public Debt, 200 Third Street, Parkersburg, West Virginia 26106.

OMB Reviewer: Alexander T. Hunt, (202) 395-7316. Office of Management and Budget, Room 10235, New Executive Office Building, Washington, DC 20503.

Robert Dahl,
Treasury PRA Clearance Officer.

[FR Doc. E7-22600 Filed 11-16-07; 8:45 am]

BILLING CODE 4810-39-P